ENVIRONMENTAL PROTECTION AGENCY

[FRL-9146-2]

Proposed Consent Decree, Clean Air Act Citizen Suit; Correction

AGENCY: Environmental Protection Agency (EPA).

ACTION: Notice of Proposed Consent Decree; Request for Public Comment; Correction.

SUMMARY: The Environmental Protection Agency published a document in the Federal Register on April 30, 2010, concerning request for comments on a proposed consent decree to address a lawsuit filed by Sierra Club in the United States District Court for the Western District of Wisconsin: Sierra Club v. Jackson, No. 09-cv-0751 (W.D. WI). The document did not include the docket identification number for this action.

FOR FURTHER INFORMATION CONTACT: Amy Branning, Air and Radiation Law Office (2344A), Office of General Counsel, U.S. Environmental Protection Agency, 1200 Pennsylvania Ave., NW., Washington, DC 20460; telephone: (202) 564-1744; fax number (202) 564-5603; e-mail address: branning.amy@epa.gov.

Correction: In the Federal Register of April 30, 2010, in FR Doc. 2010-10149, on page 22786, in the second and third columns, correct the docket identification number to read: Docket ID No. EPA-HQ-OGC-2010-0399.

Dated: April 30, 2010.
Richard B. Ossias,
Associate General Counsel.

[FR Doc. 2010-10681 Filed 5-5-10; 8:45 am]

BILLING CODE 6560-50-P